DEPARTMENT OF LABOR

Employment and Training Administration

[TA-W-50,350]

Leviton Manufacturing Company, Inc., Hillsgrove Division, Warwick, RI; Notice of Revised Determination on Reconsideration

By application of April 21, 2003, a company official requested administrative reconsideration regarding the Department's Negative Determination Regarding Eligibility To Apply for Worker Adjustment Assistance, applicable to the workers of the subject firm.

The initial investigation resulted in a negative determination issued on March 21, 2003, based on the finding that imports of electrical wiring devices did not contribute importantly to worker separations at the subject plant and that there was no shift to a foreign country. The denial notice was published in the Federal Register on April 7, 2003 (68 FR 16833).

To support the request for reconsideration, the company official supplied additional information to supplement that which was gathered during the initial investigation. Upon further review, it was revealed that the company shifted production of electrical wiring devices to Mexico during the relevant period and that this shift contributed importantly to layoffs at the Warwick plant.

Conclusion

After careful review of the facts obtained in the investigation, I determine that there was a shift in production from the workers' firm or subdivision to Mexico of articles that are like or directly competitive with those produced by the subject firm or subdivision, and there has been or is likely to be an increase in imports of like or directly competitive articles. In accordance with the provisions of the Act, I make the following certification:

“All workers of Leviton Manufacturing Company, Inc., Hillsgrove Division, Warwick, Rhode Island who became totally or partially separated from employment on or after December 16, 2001 through two years from the date of certification are eligible to apply for adjustment assistance under section 223 of the Trade Act of 1974.”

Signed in Washington, DC this 26th day of June 2003.
Elliott S. Kushner,
Certifying Officer, Division of Trade Adjustment Assistance.

[FR Doc. 03-17824 Filed 7-14-03; 8:45 am]

BILLING CODE 4510-30-P